UNITED STATES INSTITUTE OF PEACE

Announcement of the Fall 2002 Solicited Grant Competition Grant Program

AGENCY: United States Institute of Peace.

ACTION: Notice.

SUMMARY: The Agency Announces its Upcoming Fall 2002 Solicited Grant Competition. The Solicited Grant competition is restricted to projects that fit specific themes and topics identified in advance by the Institute of Peace.

The themes and topics for the Fall 2002 Solicited competition are:

• Solicitation A: Religion, Conflict, and Peacebuilding.

• Solicitation B: Democratic Governance and the Role of the Military.

Deadline (Receipt of Application Material): October 1, 2002.

Notification of Awards: March 31, 2003.

Applications Material: Available Upon Request.

ADDRESSES: For more information and an application package: United States Institute of Peace, Grant Program, Solicited Grants, 1200 17th Street, NW, Suite 200, Washington, DC 20036-3011, (202) 429-3842 (phone), (202) 429-6063 (fax), (202) 457-1719 (TTY), Email: grant_program@usip.org.

Application material available on-line starting mid May 2002: www.usip.org/grant.html.

FOR FURTHER INFORMATION CONTACT: The Grant Program, Phone (202)-429-3842.

Dated: April 23, 2002.
Bernice J. Carney,
Director Office of Administration.

[FR Doc. 02-10850 Filed 5-1-02; 8:45 am]

BILLING CODE 6820-AR-M